DEPARTMENT OF VETERANS AFFAIRS

Advisory Committee: VA National Academic Affiliations Council Notice of Meeting

The Department of Veterans Affairs (VA) gives notice under the Federal Advisory Committee Act, 5 U.S.C. App. 2 that the VA National Academic Affiliations Council will meet via conference call on March 2, 2017, from 1:00 p.m. to 3:00 p.m. EST. The meeting is open to the public.

The purpose of the Council is to advise the Secretary on matters affecting partnerships between VA and its academic affiliates.

On March 2, 2017, the Council will explore the implementation and funding status of the Veterans Access, Choice, and Accountability Act of 2014's Graduate Medical Education expansion plan; examine the breadth and scope of VA's partnerships with historically black colleges and universities (HBCUs) and Hispanic serving institutions (HSIs); and discuss planning efforts for VA's Congressionally-directed symposium on HBCU engagement that is tentatively scheduled for June 2017. The Council will receive public comments from 2:45 p.m. to 3:00 p.m. EST.

Interested persons may attend and/or present oral statements to the Council. The dial in number to attend the conference call is: 1-800-767-1750. At the prompt, enter access code 45206 then press #. Individuals seeking to present oral statements are invited to submit a 1-2 page summary of their comments at the time of the meeting for inclusion in the official meeting record. Oral presentations will be limited to five minutes or less, depending on the number of participants. Interested parties may also provide written comments for review by the Council prior to the meeting or at any time, by email to Steve.Trynosky@va.gov, or by mail to Stephen K. Trynosky J.D., M.P.H., M.M.A.S., Designated Federal Officer, Office of Academic Affiliations (10A2D), 810 Vermont Avenue NW., Washington, DC 20420. Any member of the public wishing to participate or seeking additional information should contact Mr. Trynosky via email or by phone at (202) 461-6723.

Dated: February 7, 2017,
Jelessa M. Burney,
Federal Advisory Committee Management Officer.

[FR Doc. 2017-02764 Filed 2-9-17; 8:45 am]

BILLING CODE 8320-01-P